DEPARTMENT OF TRANSPORTATION

Federal Aviation Administration

14 CFR Part 39

[Docket No. 2001-SW-26-AD]

Airworthiness Directives; MD Helicopters, Inc. Model MD900 Helicopters

AGENCY: Federal Aviation Administration, DOT.

ACTION: Notice of proposed rulemaking (NPRM).

SUMMARY: This document proposes adopting a new airworthiness directive (AD) for MD Helicopters, Inc. (MDHI) Model MD900 helicopters. The AD would require inspecting and, if necessary, repairing the longitudinal drive link (drive link) and modifying certain nonrotating swashplate (swashplate) assemblies. The AD would also require recording compliance with the AD on a component history card or equivalent record. This proposal is prompted by reports of damage to the drive link assembly caused by the sharp inner edge of the bushing in the swashplate assembly. The actions specified by the proposed AD are intended to prevent damage to the drive link, loss of control of the main rotor system, and subsequent loss of control of the helicopter.

DATES: Comments must be received on or before July 29, 2002.

ADDRESSES: Submit comments in triplicate to the Federal Aviation Administration (FAA), Office of the Regional Counsel, Southwest Region, Attention: Rules Docket No. 2001-SW-26-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Jon Mowery, Aviation Safety Engineer, FAA, Los Angeles Aircraft Certification Office, Airframe Branch, 3960 Paramount Blvd., Lakewood, California 90712, telephone (562) 627-5322, fax (562) 627-5210.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-26-AD.” The postcard will be date stamped and returned to the commenter.

Availability of NPRMs

Any person may obtain a copy of this NPRM by submitting a request to the FAA, Office of the Regional Counsel, Southwest Region, Attention: Rules Docket No. 2001-SW-26-AD, 2601 Meacham Blvd., Room 663, Fort Worth, Texas 76137.

Discussion

This document proposes adopting a new AD for certain MDHI Model MD900 helicopters. The AD would require inspecting and, if necessary, repairing the drive link assembly, part number (P/N) 900C2010212-101, and modifying the swashplate assembly, P/N 900C2010192-105, -107, and -109. The AD would also require recording compliance on the component history card or equivalent record. This proposal is prompted by reports of damage to the drive link assembly. The damage is caused by the drive link striking the sharp edges of the nonrotating swashplate due to the small clearance between the swashplate bushing and the drive link. The FAA issued AD 2000-18-08 (65 FR 55449, September 14, 2000) to require modifying the swashplate assembly, P/N 900C2010192-111, reidentifying two swashplate assemblies as P/N's 900C1010004-127 and 900C2010192-113, and inspecting drive link assemblies, P/N 900C2010212-101. We have since determined that similar requirements should also apply to swashplate assembly, P/N 900C2010192-105, -107, and -109. This condition, if not corrected, could result in damage to the drive link, loss of control of the main rotor system, and subsequent loss of control of the helicopter.

The FAA has reviewed MDHI Service Bulletin SB900-078, dated April 23, 2001 (SB), which describes procedures for reworking of the bushing in the swashplate assembly and inspecting and repairing the drive link assembly.

Since we have identified an unsafe condition that is likely to exist or develop on other MDHI Model MD900 helicopters of the same type design, the proposed AD would require the following:

• Modify the swashplate assembly, P/N 900C2010192-105, -107, or -109;

• Dye-penetrant inspect for gouging and cracking and modify or replace, as necessary, the drive link assembly, P/N 900C2010212-101.

• Record compliance with the AD on the component history card or equivalent record.

The actions would be required to be accomplished in accordance with the SB described previously.

The FAA estimates that 28 helicopters of U.S. registry would be affected by this proposed AD, that it would take approximately 2 work hours per helicopter to accomplish the proposed actions, and that the average labor rate is $60 per work hour. Required parts would cost approximately $1164 per helicopter. Based on these figures, the total cost impact of the proposed AD on U.S. operators is estimated to be $35,952.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

MD Helicopters Inc.: Docket No. 2001-SW-26-AD.

Applicability: Model MD900 helicopters, serial numbers 0008 through 0068, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated.

To prevent damage to the longitudinal drive link (drive link), loss of control of the main rotor system, and subsequent loss of control of the helicopter, accomplish the following:

(a) Within 100 hours time-in-service (TIS) or 3 months, whichever occurs first, unless previously accomplished, modify the nonrotating swashplate assembly, part number (P/N) 900C2010192-105, -107, or -109, in accordance with the Accomplishment Instructions, paragraphs 2.A.(1). and 2.A.(2)., of MD Helicopters (MDHI) Service Bulletin SB900-078, dated April 23, 2001 (SB).

(b) After modifying the nonrotating swashplate assembly, P/N 900C2010192-105, -107 or -109, in accordance with paragraph (a) of this AD, dye-penetrant inspect the drive link assembly, P/N 900C2010212-101, for gouging or cracking in accordance with the Accomplishment Instructions, paragraph 2.B.(1). and 2.B.(2). of the SB, except that returning cracked parts to MDHI is not required by this AD.

(1) If a crack is found, before further flight, replace the drive link assembly, P/N 900C2010212-101, with an airworthy drive link assembly.

(2) If gouging is found without a crack, before further flight, rework the drive link assembly, P/N 900C2010212-101, in accordance with the Accomplishment Instructions, paragraph 2.B.(3) of the SB.

Note 2: Even if you have previously accomplished the inspection required by paragraph (b) of this AD, you are not relieved from complying with paragraph (b) of this AD.

(c) Record compliance with this AD on the component history card or equivalent record for the nonrotating swashplate assembly.

(d) Accomplishing the actions required by paragraphs (a) and (b) of this AD is terminating action for the requirements of this AD.

(e) An alternative method of compliance or adjustment of the compliance time that provides an acceptable level of safety may be used if approved by the Manager, Los Angeles Aircraft Certification Office. Operators shall submit their requests through an FAA Principal Maintenance Inspector, who may concur or comment and then send it to the Manager, Los Angeles Aircraft Certification Office.

Note 3: Information concerning the existence of approved alternative methods of compliance with this AD, if any, may be obtained from the Los Angeles Aircraft Certification Office.

(f) Special flight permits may be issued in accordance with 14 CFR 21.197 and 21.199 to operate the helicopter to a location where the requirements of this AD can be accomplished.

Issued in Fort Worth, Texas, on May 20, 2002.
David A. Downey,
Manager, Rotorcraft Directorate, Aircraft Certification Service.

[FR Doc. 02-13291 Filed 5-28-02; 8:45 am]

BILLING CODE 4910-13-P